DEPARTMENT OF HEALTH AND HUMAN SERVICES

Centers for Disease Control and Prevention

[30Day-13-12MX]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Research to Inform the Prevention of Asthma in Healthcare—New—National Institute for Occupational Safety and Health (NIOSH), Centers for Disease Control and Prevention (CDC).

Background and Brief Description

Healthcare is the largest industry in the United States and performs a vital function in society. Evidence from both surveillance and epidemiologic research indicates that healthcare workers have an elevated risk for work-related asthma (WRA) associated with exposure to groups of agents such as cleaning products, latex, indoor air pollution, volatile organic compounds (VOCs) and bioaerosols. Recent epidemiologic studies of WRA among healthcare workers have utilized job exposure matrices (JEMs) based on probability of exposure, however, specific exposures/etiologic agents are not well characterized and quantitative exposure measurements are lacking. In this project, NIOSH will augment the existing JEM with quantitative exposure data, which will significantly enhance the existing JEMs and develop a survey questionnaire for asthma in healthcare.

Since asthma continues to be a problem among healthcare workers, the overall goal of this project is to prevent work-related asthma among healthcare workers. The primary objective is to identify modifiable occupational risk factors for asthma in healthcare that will inform strategies for prevention. Specific Aims that support the Primary Objective are:

Aim 1. Measure frequency of asthma onset, related symptoms, and exacerbation of asthma in selected healthcare occupations

Aim 2. Assess associations between asthma outcomes and exposures to identify modifiable risk factors

In order to accomplish the goal and aims of this project NIOSH has developed a survey designed to collect information about work history, workplace exposures and asthma health from workers in the healthcare industry. Aim 1 of this project will be completed using data exclusively from this survey. While aim 2 will be completed using asthma outcome data from the survey and exposure data from the JEM developed from survey data and exposure data from previously environmental sampling at healthcare facilities.

Approximately 15,000 health care workers in the New York City area will be recruited for this study. The goal is to conduct a cross-sectional epidemiologic survey of approximately 5,000 healthcare workers who are members of Service Employees International Union (SEIU) Local 1199. Only health care workers whose job titles are in one of nine job titles will be recruited. These nine job titles include: certified nursing assistants (CNAs), central supply, environmental services, licensed practical nurses (LPNs), lab techs, operating room (OR) techs, registered nurses (RNs), respiratory therapists, and dental assistants. Furthermore, recruitment of health care workers will only be from hospitals and nursing homes.

Completion of the survey by SEIU1199 members will be done either online or over the telephone. After the initial recruitment period, SEIU1199 members will have approximately two weeks to complete the online survey. After this two week period, the SEIU1199 Communication Center will begin calling members who have not completed the online survey and attempt to complete the survey with them by telephone interview. NIOSH anticipates 20% of the responses to be made using the online survey and the remaining 80% to be by telephone interview.

There are no costs to respondents for this study. Summary results of this study will be made available to SEIU1199 members who completed the survey through a letter mailed to their homes. Summary results will also be published in the SEIU1199 newsletter for the remaining members. Results of this this study will also be disseminated to other industry stakeholders besides SEIU1199. These stakeholders and the desired consequences of the dissemination are:

1. Healthcare workers will learn about hazards in their work environment and become better prepared to participate in the development of strategies to minimize risk.

2. Health and safety staff at the facilities where participants are employed, who can potentially use the information for prevention.

3. Researchers can build on the findings to conduct additional research that will advance our understanding of asthma in healthcare and how to prevent it.

4. Clinicians will learn how occupational exposures can impact the respiratory health of their patients who work in healthcare, which should improve the care they provide.

5. Professional societies and government agencies will use findings from this and other studies to develop recommendations for preventing asthma and related symptoms in healthcare workers.

Finally, manuscripts of results and conclusions will be drafted and published in peer reviewed journals.

The target sample size for this study is 5,000. Based on the SEIU1199 membership data, the percentage of eligible union members that fall into the targeted nine job categories is known. Therefore, a participant job-category distribution estimate can be made.

Completion of either the online or telephone survey will take approximately 30 minutes. There is no cost to respondents other than their time. The total estimated annual burden hours are 1,255.

Estimated Annualized Burden Hours
Type of respondents | Form name | Number of respondents | Number of responses per respondent | Avg. burden per response (in hrs)
Certified Nursing Assistants | Online | 149 | 1 | 30/60
| Telephone | 594 | 1 | 30/60
Central Supply Workers | Online | 4 | 1 | 30/60
| Telephone | 17 | 1 | 30/60
Dental Assistants | Online | 9 | 1 | 30/60
| Telephone | 36 | 1 | 30/60
Environmental Service Workers | Online | 114 | 1 | 30/60
| Telephone | 457 | 1 | 30/60
Licensed Practical Nurses | Online | 70 | 1 | 30/60
| Telephone | 280 | 1 | 30/60
Lab Technicians | Online | 39 | 1 | 30/60
| Telephone | 155 | 1 | 30/60
Operating Room Technicians | Online | 14 | 1 | 30/60
| Telephone | 55 | 1 | 30/60
Registered Nurses | Online | 84 | 1 | 30/60
| Telephone | 336 | 1 | 30/60
Respiratory Therapists | Online | 18 | 1 | 30/60
| Telephone | 72 | 1 | 30/60

Ron A. Otten,
Director, Office of Scientific Integrity, Office of the Associate Director for Science Office of the Director, Centers for Disease Control and Prevention.

[FR Doc. 2013-08150 Filed 4-8-13; 8:45 am]

BILLING CODE 4163-18-P